DEPARTMENT OF ENERGY

Federal Energy Regulatory Commission

[Docket No. IC03-587-000, FERC Form No. 587]

Proposed Information Collection and Request for Comments

April 4, 2003.

AGENCY: Federal Energy Regulatory Commission.

ACTION: Notice of proposed information collection and request for comments.

SUMMARY: In compliance with the requirements of section 3506(c)(2)(a) of the Paperwork Reduction Act of 1995 (Pub. L. No. 104-13), the Federal Energy Regulatory Commission (Commission) is soliciting public comment on the specific aspects of the information collection described below.

DATES: Consideration will be given to comments submitted on or before June 4, 2003.

ADDRESSES: Copies of the proposed collection of information can be obtained from and written comments may be submitted to the Federal Energy Regulatory Commission, Attn: Michael Miller, Office of the Executive Director, ED-30, 888 First Street, NE., Washington, DC 20426. Comments on the proposed collection of information may be filed either in paper format or electronically. Those parties filing electronically do not need to make a paper filing. For paper filings, the original and 14 copies of such comments should be submitted to the Office of the Secretary, Federal Energy Regulatory Commission, 888 First Street, NE., Washington, DC 20426 and should refer to Docket No. IC03-587-000.

Documents filed electronically via the Internet can be prepared in a variety of formats including WordPerfect, MS Word, Portable Document Format, Rich Text Format of ASCII format. To file the document, access the Commission's Web site at http://www.ferc.gov and click on “Make an E-filing,” and then follow the instructions for each screen. First time users will have to establish a user name and password. The Commission will send an automatic acknowledgment to the sender's E-mail address upon receipt of documents. User assistance for electronic filings is available at 202-502-8258 or by E-mail to efiling@fer.gov. Comments should not be submitted to this E-mail address.

All comments may be viewed, printed or downloaded remotely via the Internet through FERC's homepage using the FERRIS link. For user assistance, contact FERCOnlineSupport@ferc.gov or toll free at (866) 208-3676 or for TTY, contact (202) 502-8659.

FOR FURTHER INFORMATION CONTACT: Michael Miller at (202) 502-8415, by fax at (202) 273-0873, and by e-mail at michael.miller@ferc.gov or Anumzziatta Purchiaroni at (202) 502-6191, by fax (202) 219-2732, anumzziatta.purchiaroni@ferc.gov.

SUPPLEMENTARY INFORMATION: The Commission is reinstating its form “Land Description” (FERC Form No.587), which is used to collect information required by the statutory provisions of section 24 of the Federal Power Act (FPA), (16 U.S.C.818). Applicants proposing hydropower projects, or changes to existing projects located on lands owned by the United States are required to provide a description of the U.S. lands affected to the Commission and Secretary of Interior. FERC Form No. 587 consolidates the information required, and identifies hydropower project boundary maps associated with lands of the United States. The Commission verifies the accuracy of the information supplied and coordinates with the Bureau Land of Management State Offices (BLM) so the U.S. lands can be reserved as hydropower sites and withdrawn from other uses. FERC Form No. 587 was formerly approved by the Office of Management and Budget (OMB), and requires re-authorization.

Action: The Commission is requesting reinstatement and a three-year approval of the former collection of information. In addition, the Commission is revising the format of FERC Form No. 587.

Burden Statement: Public reporting burden for this collection is estimated as:

Number of respondents annually | Number of responses per respondent | Average burden hours per response | Total annual burden hours
(1) | (2) | (3) | (1)x(2)x(3)
250 | 1 | 1 | 250

The estimated total cost to respondents is $14,067.00. (Hours divided by 2,080 hours per year per employee times $117,041.00 per year per average employee = $ 14,067.00.) The cost per respondent is $56.27.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g. permitting electronic submission of responses.

Magalie R.Salas,
Secretary.

[FR Doc. 03-8978 Filed 4-10-03; 8:45 am]

BILLING CODE 6717-01-P